NUCLEAR REGULATORY COMMISSION

[NRC-2012-0069]

Japan Lessons-Learned Project Directorate Interim Staff Guidance JLD-ISG-2012-02; Compliance With Order EA-12-050, Order Modifying Licenses With Regard to Reliable Hardened Containment Vents

AGENCY: Nuclear Regulatory Commission (NRC).

ACTION: Japan Lessons-Learned Project Directorate interim staff guidance; issuance.

SUMMARY: The U.S. Nuclear Regulatory Commission (NRC or the Commission) is issuing the Final Japan Lessons-Learned Project Directorate Interim Staff Guidance (JLD-ISG), JLD-ISG-2012-02, “Compliance with Order EA-12-050, Order Modifying Licenses With Regard to Reliable Hardened Containment Vents” (Agencywide Documents Access and Management System (ADAMS) Accession No. ML12229A475). This JLD-ISG provides guidance and clarification to assist nuclear power reactors applicants and licensees with the identification of measures needed to comply with requirements to mitigate challenges to key safety functions. These requirements are contained in Order EA-12-050, “Order Modifying Licenses with Regard to Reliable Hardened Containment Vents” (ADAMS Accession No. ML12054A696).

ADDRESSES: You may access information and comment submissions related to this document, which the NRC possesses and are publically available, by searching on http://www.regulations.gov under Docket ID NRC-2012-0069.

• Federal Rulemaking Web site: Go to http://www.regulations.gov and search for Docket ID NRC-2012-0069. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The JLD-ISG-2012-02 is available under ADAMS Accession No. ML12229A475.

• NRC's PDR: You may examine and purchase copies of public documents at the NRC's PDR, Room O1-F21, One White Flint North, 11555 Rockville Pike, Rockville, MD 20852

• NRC's Interim Staff Guidance Web Site: Go to http://www.nrc.gov/reading-rm/doc-collections/isg/japan-lessons-learned.html and refer to JLD-ISG-2012-02.

FOR FURTHER INFORMATION CONTACT: Mr. Robert J. Fretz, Japan Lessons-Learned Project Directorate, Office of Nuclear Reactor Regulation, U.S. Nuclear Regulatory Commission, Washington, DC 20555-0001; telephone: 301-415-1980; email: Robert.Fretz@nrc.gov.

SUPPLEMENTARY INFORMATION:

II. Background Information

JLD-ISG-2012-02 is being issued to describe methods acceptable to the NRC staff for complying with Order EA-12-050, “Order Modifying Licenses with Regard to Reliable Hardened Containment Vents (Effective Immediately)” (Order EA-12-050), issued March 12, 2012. The ISG is not a substitute for the requirements in Order EA-12-050, and compliance with this ISG not required.

The NRC issued Order EA-12-050 following the NRC staff's evaluation of the earthquake and tsunami, and resulting nuclear accident, at the Fukushima Dai-ichi nuclear power plant in March 2011. Order EA-12-050 requires licensees to implement requirements relating to reliable hardened venting systems at boiler water reactor (BWR) facilities with Mark I and Mark II containment designs. Order EA-12-050 also specified that the NRC staff would issue final interim staff guidance in August 2012 to provide additional information on acceptable approaches for complying with the Order.

Numerous public meetings were held to receive stakeholder input on the proposed requirements for reliable hardened vents prior to issuance of Order EA-12-050. Following issuance of the Order, additional public meetings were held with representatives from the BWR Owners' Group and public stakeholders to discuss development of the guidance for compliance with Order EA-12-050. On June 7, 2012 (77 FR 33777), the NRC requested public comments on draft JLD-ISG-12-02. The staff received comments from five commenters which were considered in the development of the final JLD-ISG-12-02. The questions, comments and staff resolutions of those comments are contained in “NRC Responses to Public Comments, Japan Lessons-Learned Project Directorate Interim Staff Guidance, JLD-ISG-2012-02: Compliance with Order EA-12-050, Order Modifying Licenses with Regard to Reliable Hardened Containment Vents,” which can be found in ADAMS as Accession No. ML122229A477.

Backfitting and Issue Finality

This ISG does not constitute backfitting as defined in Title 10 of the Code of Federal Regulations (10 CFR) 50.109 (the Backfit Rule) and is not otherwise inconsistent with the issue finality provisions in Part 52, “Licenses, Certifications, and Approvals for Nuclear Power Plants,” of 10 CFR. This ISG provides guidance on an acceptable method for implementing the requirements contained in Order EA-12-050, which was issued as ensuring adequate protection under the provisions of the backfit rule. Applicants and licensees may voluntarily use the guidance in JLD-ISG-2012-02 to demonstrate compliance with Order EA-12-050. Methods or solutions that differ from those described in this ISG may be deemed acceptable if they provide sufficient basis and information for the NRC staff to verify that the proposed alternative demonstrates compliance with Order EA-12-050.

Congressional Review Act

This interim staff guidance is a rule as designated in the Congressional Review Act (5 U.S.C. 801-808). OMB has found that this is not a major rule in accordance with the Congressional Review Act.

Dated at Rockville, Maryland, this 29th day of August 2012.
For the Nuclear Regulatory Commission.
John D. Monninger,
Associate Director, Japan Lessons-Learned Project Directorate, Office of Nuclear Reactor Regulation.

[FR Doc. 2012-22078 Filed 9-6-12; 8:45 am]

BILLING CODE 7590-01-P